INTERNATIONAL TRADE COMMISSION

[Investigation No. 337-TA-1070]

Certain Periodontal Laser Devices and Components Thereof Termination of Investigation on the Basis of Withdrawal of the Complaint

AGENCY: U.S. International Trade Commission.

ACTION: Notice.

SUMMARY: Notice is hereby given that the U.S. International Trade Commission has determined not to review the presiding administrative law judge's (“ALJ”) initial determination (“ID”) (Order No. 7), which terminated the investigation on the basis of withdrawal of the complaint.

FOR FURTHER INFORMATION CONTACT: Sidney A. Rosenzweig, Office of the General Counsel, U.S. International Trade Commission, 500 E Street SW, Washington, DC 20436, telephone (202) 708-2532. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on September 15, 2017, based upon a complaint filed by Millennium Dental Technologies, Inc. of Cerritos, California (“Millennium”). 82 FR 43401, 43402 (Sept. 15, 2017). The complaint alleged violations of section 337 of the Tariff Act of 1930, as amended (19 U.S.C. 1337), in the importation into the United States, the sale for importation, or the sale within the United States after importation of certain periodontal laser devices and components thereof by reason of false advertising, the threat or effect of which is to destroy or substantially injure an industry in the United States. 82 FR at 43401. The notice of investigation named as respondents Fotona d.o.o. of Ljubljana, Slovenia, and Fotona, LLC of Dallas Texas (collectively, “Fotona”). The Office of Unfair Import Investigations was also named as a party.

On December 28, 2017, Millennium moved to terminate the investigation based upon withdrawal of the complaint. The Commission investigative attorney responded in support of the motion. Fotona responded that while it did not oppose termination, it intended to reserve the right to seek sanctions against Millennium.

On January 3, 2018, the presiding ALJ granted the motion as the subject ID. The ID finds that the motion complies with Commission Rules, that no extraordinary circumstances prevent the termination of the investigation, and that termination is in the public interest. ID at 1-2; see 19 CFR 210.21(a)(1).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: January 19, 2018.
Lisa R. Barton,
Secretary to the Commission.

[FR Doc. 2018-01295 Filed 1-23-18; 8:45 am]

BILLING CODE 7020-02-P